DEPARTMENT OF JUSTICE

Drug Enforcement Administration

[Docket No. DEA-392]

Manufacturer of Controlled Substances Registration: American Radiolabeled Chemicals, Inc.

ACTION: Notice of registration.

SUMMARY: American Radiolabeled Chemicals, Inc. applied to be registered as a manufacturer of certain basic classes of controlled substances. The Drug Enforcement Administration (DEA) grants American Radiolabeled Chemicals, Inc. registration as a manufacturer of those controlled substances.

SUPPLEMENTARY INFORMATION: By notice dated January 28, 2015, and published in the Federal Register on February 5, 2015, 80 FR 6547, American Radiolabeled Chemicals, Inc., 101 Arc Drive, St. Louis, Missouri 63146 applied to be registered as a manufacturer of certain basic classes of controlled substances. No comments or objections were submitted to this notice.

The DEA has considered the factors in 21 U.S.C. 823(a) and determined that the registration of American Radiolabeled Chemicals, Inc. to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the basic classes of controlled substances listed:

Controlled substance | Schedule
Gamma Hydroxybutyric Acid (2010) | I
Ibogaine (7260) | I
Lysergic Acid Diethylamide (7315) | I
Tetrahydrocannabinols (7370) | I
Dimethyltryptamine (7435) | I
1-[1-(2-Thienyl)cyclohexyl]piperidine (7470) | I
Dihydromorphine (9145) | I
Heroin (9200) | I
Normorphine (9313) | I
Amphetamine (1100) | II
Methamphetamine (1105) | II
Amobarbital (2125) | II
Phencyclidine (7471) | II
Phenylacetone (8501) | II
Cocaine (9041) | II
Codeine (9050) | II
Dihydrocodeine (9120) | II
Oxycodone (9143) | II
Hydromorphone (9150) | II
Ecgonine (9180) | II
Hydrocodone (9193) | II
Meperidine (9230) | II
Metazocine (9240) | II
Methadone (9250) | II
Dextropropoxyphene, bulk (non-dosage forms) (9273) | II
Morphine (9300) | II
Oripavine (9330) | II
Thebaine (9333) | II
Oxymorphone (9652) | II
Phenazocine (9715) | II
Carfentanil (9743) | II
Fentanyl (9801) | II

The company plans to manufacture small quantities of the listed controlled substances as radiolabeled compounds for biochemical research.

Dated: July 23, 2015.
Joseph T. Rannazzisi,
Deputy Assistant Administrator.

[FR Doc. 2015-18692 Filed 7-29-15; 8:45 am]

BILLING CODE P